DEPARTMENT OF LABOR

Office of the Secretary

Submission for OMB Review; Comment Request

June 25, 2002.

The Department of Labor (DOL) has submitted the following public information collection requests (ICRs) to the Office of Management and Budget (OMB) for review and approval in accordance with the Paperwork Reduction Act of 995 (Pub. L. 104-13, 44 U.S.C. Chapter 35). A copy of each individual ICR, with applicable supporting documentation may be obtained by calling the Department of Labor. To obtain documentation contact Marlene Howze at (202) 693-4158 or Email Howze-Marlene@dol. gov.

Comments should be sent to Office of Information and Regulatory Affairs, Attn: OMB Desk Officer for ESA, Office of Management and Budget, Room 10235, Washington, DC 20503 ((202) 395-7316, within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Rehabilitation Action Report.

OMB Number: 1215-0182.

Affected Public: Business or other for-profit; and individuals or households.

Frequency: On occasion.

Number of Respondents: 7,000.

Number of Annual Responses: 7,000.

Estimated Time Per Response: 15 minutes.

Total Burden Hours: 1,750.

Total Annualized Capital/Startup Costs: 0.

Total Annual costs (operating/maintaining systems or purchasing services): 0.

Description: Section 8104(a) of the Federal Employees' Act provides that eligible injured workers are furnished vocational rehabilitation services. The costs of these services are paid from the Employee's Compensation Fund. Section 8111(b) provides that persons undergoing vocational rehabilitation may receive additional compensation. The OWCP-44 is the Rehabilitation Action Report submitted to the Office of Worker's Compensation Programs by the rehabilitation counselor to report transition periods during vocational rehabilitation and to request prompt adjudication claims action. If the OWCP-44 were not utilized, delays in acting would cause waste of government funds and potential fraud and abuse.

Ira L. Mills,
Department Clearance Officer.

[FR Doc. 02-16716 Filed 7-2-02; 8:45 am]

BILLING CODE 4510-CH-M